DEPARTMENT OF JUSTICE

Notice of Lodging of Consent Decree Pursuant to the Comprehensive Environmental Response, Compensation, and Liability Act

Notice is hereby given that a consent decree in United States of America v. Ming Ming Chua and Sophia Keh, Civil Action No. 01-CV-811 (E.D. Pa.) was lodging with the court on July 23, 2001.

The proposed consent decree resolves the alleged liability of the defendants, Ming Ming Chua and Sophia Keh, in this action for response costs and penalties at the Belfield Paint Superfund Site at 5250-5252 Belfield Avenue in Philadelphia, Pennsylvania brought pursuant to sections 106(b), 107(a), and 107(c)(3) of the Comprehensive Environmental Response, Compensation and Liability Act of 1980, as amended, (“CERCLA”), 42 U.S.C. 9696(b), 9607(a), and 9607(c)(3). The decree obligates the Settling Defendants to reimburse the United States for past response costs and penalties in the amount of $107,000.

The Department of Justice will receive, for a period of thirty (“30”) days from the date of this publication, comments relating to the proposed consent decree. Comments should be addressed to the Assistant Attorney General, Environment and Natural Resources Division, PO Box 7611, U.S. Department of Justice, Washington, DC 20044-7611, and should refer to United States of America v. Ming Ming Chua and Sophia Keh, DOJ Ref. #90-11-3-07102.

The proposed consent decree may be examined and copied at the Office of the United States Attorney, 615 Chestnut Street, Suite 1250, Philadelphia, PA 19106; or at the Region III Office of the Environmental Protection Agency, c/o Gail Wilson, Assistant Regional Counsel, 1650 Arch Street, Philadelphia, PA 19103. A copy of the proposed consent decree may be obtained by mail from the Consent Decree Library, PO Box No. 7611, Washington, DC 20044. In requesting a copy, please refer to the referenced case and enclose a check in the amount of $5.25 (25 cents per page reproduction costs), payable to the Consent Decree Library. A copy of the exhibits to the decree may be obtained from the same source for an additional charge.

Nuriye C. Uygur,
Assistant, U.S. Attorney's Office for the Eastern District of Pennsylvania.

[FR Doc. 01-18895 Filed 7-27-01; 8:45 am]

BILLING CODE 4410-15-M